DEPARTMENT OF TRANSPORTATION

Federal Railroad Administration

[Docket Number FRA-2018-0005]

Petition for Waiver of Compliance

Under part 211 of Title 49 of the Code of Federal Regulations (CFR), this provides the public notice that on January 2, 2018, the National Railroad Passenger Corporation (Amtrak) petitioned the Federal Railroad Administration (FRA) for a waiver of compliance from certain provisions of the Federal railroad safety regulations contained at 49 CFR part 238, Passenger Equipment Safety Standards. FRA assigned the petition docket number FRA-2018-0005.

Amtrak plans to lease two articulated Series 8 trainsets from Tren Articulado Ligero Goicoechea Oriol (Talgo) to support its Cascade intercity service. The Cascade service operates between Eugene, OR and Vancouver, BC. The service uses both Talgo Series 6 and Series 8 trainsets. Amtrak currently has two Series 8 trainsets now in service that were purchased by the state of Oregon in 2013. The two train sets to be leased from Talgo were originally built for the state of Wisconsin in 2013 but never purchased. The trainsets have never been operated but have been stored in serviceable condition at the Amtrak Beech Grove facility in Beech Grove, IN.

Amtrak requests relief for the two Talgo Series 8 trainsets from the requirements of 49 CFR 238.131(b), Safety System for Manual and Powered Side Doors—propulsion interlock, which applies to passenger cars beginning service after February 5, 2018, and § 238.133, Exterior side door safety systems—all passenger cars and locomotives used in a passenger service.

The Talgo Series 8 trainsets currently in operation have been in service since 2013 and are therefore exempt from the requirements of §§ 238.131(b) and 238.133 because they were ordered prior to April 5, 2016 and placed into service prior to February 5, 2018. The Talgo Series 8 trainsets to be leased are identical to the Series 8 trainsets currently in operation. The relief would apply only to the trainsets to be leased from Talgo that have never been placed in service.

A copy of the petition, as well as any written communications concerning the petition, is available for review online at www.regulations.gov and in person at the Department of Transportation's Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by March 19, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety Chief Safety Officer.

[FR Doc. 2018-01961 Filed 1-31-18; 8:45 am]

BILLING CODE 4910-06-P